DEPARTMENT OF ENERGY

Federal Energy Regulatory Commission

[Docket No. EL04-61-000, et al.]

Reliant Energy Choctaw County, LLC, et al.; Electric Rate and Corporate Filings

January 30, 2004.

The following filings have been made with the Commission. The filings are listed in ascending order within each docket classification.

1. Reliant Energy Choctaw County, LLC

[Docket No. EL04-61-000]

Take notice that on January 29, 2004, pursuant to Rule 206 of the Federal Energy Regulatory Commission's Rules of Practice and Procedure, 18 CFR 385.206 (2003), Reliant Energy Choctaw County, LLC (Reliant Energy Choctaw) filed a Complaint Requesting That The Federal Energy Regulatory Commission Issue An Order Requiring Entergy Services, Inc. To Comply With Commission Orders And Further Requesting Fast Track Processing. Reliant Energy Choctaw avers that Entergy Services, Inc. is violating Commission precedent regarding the flexible use of transmission credits.

Comment Date: February 19, 2004.

2. Pure Energy, Inc.

[Docket No. ER04-452-000]

Take notice that on January 20, 2004, Pure Energy, LLC tendered for a change of the structure of the company from a limited liability company (LLC) to a corporation (INC); Pure Energy, LLC has changed to Pure Energy, Inc.

Comment Date: February 10, 2004.

3. Louis Dreyfus Energy LL

[Docket No. ER04-465-000]

Take notice that on December 16, 2003, Louis Dreyfus Energy LLC (LDE) filed to make ministerial changes to it First Revised Rate Schedule FERC No. 1.

Comment Date: February 6, 2004.

4. Powerex Corp.

[Docket No. ER04-466-000]

Take notice that on December 17, 2003, Powerex Corp. (Powerex) tendered revisions to its Second Revised FERC Electric Rate Schedule No. 1.

Comment Date: February 6, 2004.

5. The Clark Fort and Blackfoot, L.L.C.

[Docket No. ER04-467-000]

Take notice that on December 17, 2003, The Clark Fort and Blackfoot, L.L.C. (TCFB) tendered for filing revisions to its FERC Electric Tariff, First Revised Volume No. 1.

Comment Date: February 6, 2004.

6. AES Eastern Energy, L.P.

[Docket No. ER04-468-000]

Take notice that on December 17, 2003, AES Eastern Energy, L.P., AES Creative Resources, L.P. and AEE 2, L.L.C. (collectively, the AES Parties) tendered for filing revisions to certain ministerial changes to the AES Parties' Codes of Conduct to reflect that they are no longer affiliated with Central Illinois Light Company.

Comment Date: February 6, 2004.

7. FortisOntario, Inc.

[Docket No. ER04-469-000]

Take notice that on December 16, 2003, FortisOntario, Inc. tendered for filing an application for authorization to remove prohibition on inter-affiliate sales and a cancellation of code of conduct.

Comment Date: February 6, 2004.

8. CAM Energy Products, Inc.

[Docket No. ER04-481-000]

Take notice that on December 17, 2003, CAM Energy Products, LP (CAM) tendered for filing an amended Rate Schedule No. 1 to expand its authority to resell firm transmission rights, or their equivalent, beyond the PJM Interconnection, L.L.C. and New York markets.

Comment Date: February 6, 2004.

9. Global Common Greenport, LLC

[Docket No. ER04-482-000]

Take notice that on December 17, 2003, Global Common Greenport, LLC (GCG) filed revisions to its revised Rate Schedule FERC No. 1.

Comment Date: February 6, 2004.

10. LMP Capital, LLC

[Docket No. ER04-483-000]

Take notice that on December 17, 2003, LMP Capital, LLC (LMP Capital) tendered for filing are amended Rate Schedule No. 1 to update LMP Capital's authorizations to include resale of auction revenue rights.

Comment Date: February 6, 2004.

11. MS Retail Development Corp.

[Docket No. ER04-488-000]

Take notice that on December 17, 2003, MS Retail Development Corp., filed revisions to its market-based rate schedule to update certain rate schedule provisions.

Comment Date: February 6, 2004.

12. PacifiCorp

[Docket No. ER04-489-000]

Take notice that on December 17, 2003, PacifiCorp tendered for filing proposed changes to its market based rate tariff to eliminate terms and conditions that conflict with the various standard agreements under which PacifiCorp and the industry now transact.

Comment Date: February 6, 2004.

13. Merrill Lynch Capital Services, Inc.

[Docket No. ER04-490-000]

Take notice that on December 17, 2003, Merrill Lynch Capital Services, Inc., filed revisions to its market-based rate schedule to update certain rate schedule provisions.

Comment Date: February 6, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-213 Filed 2-5-04; 8:45 am]

BILLING CODE 6717-01-P